NUCLEAR REGULATORY COMMISSION

[Docket No. 50-373]

Exelon Generation Company, LLC; Notice of Withdrawal of Application for Amendment to Facility Operating License

The U.S. Nuclear Regulatory Commission (the Commission) has granted the request of Exelon Generation Company, LLC (the licensee), to withdraw its June 18, 2007, application for proposed amendment, as supplemented by letter dated September 7, 2007, to Facility Operating License No. NPF-11, for the LaSalle County Station (LSCS), Unit 1, located in Will County.

The proposed amendment would have revised the facility Technical Specification 5.5.13 pertaining to primary containment leakage rate testing, to reflect a one-time extension of the LSCS, Unit 1 primary containment Type A Integrated Leak Rate Test date from the current requirement of no later than June 13, 2009, to prior to startup following the thirteenth LSCS refueling outage for Unit 1.

The Commission had previously issued a Notice of Consideration of Issuance of Amendment published in the Federal Register on July 31, 2007 (72 FR 41784). However, by letter dated October 12, 2007, the licensee withdrew the proposed change.

For further details with respect to this action, see the application for amendment dated June 18, 2007, as supplemented by letter dated September 7, 2007, and the licensee's letter dated October 12, 2007, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 14th day of January, 2008.
For the Nuclear Regulatory Commission.
Stephen P. Sands,
Project Manager, Plant Licensing Branch III-2, Division of Operating Reactor Licensing, Office of Nuclear Reactor Regulation.

[FR Doc. E8-988 Filed 1-18-08; 8:45 am]

BILLING CODE 7590-01-P